DEPARTMENT OF THE INTERIOR

Bureau of Ocean Energy Management

[OMB Control Number 1010-0114; MMAA104000]

Information Collection; Proposed Collection for OMB Review; Comment Request: General Oil and Gas and Sulphur and Production Requirements in the Outer Continental Shelf

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under 30 CFR part 550, subparts A and K, General and Production Requirements.

DATES: Submit written comments by August 16, 2013.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0114 in your comment and include your name and return address.

FOR FURTHER INFORMATION CONTACT: Arlene Bajusz, Office of Policy, Regulations, and Analysis at (703) 787-1025 for a copy of the ICR or the forms.

SUPPLEMENTARY INFORMATION: OMB Control Number: 1010-0114.

Title: 30 CFR 550, Subpart A, General, and Subpart K, Oil and Gas Production Requirements.

Forms: BOEM-0127, BOEM-0140, BOEM-1123, BOEM-1832.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations in the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and techniques sufficient to prevent or minimize . . . loss of well control . . . physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and Office of Management and Budget (OMB) Circular A-25 authorize Federal agencies to recover the full cost of services that confer special benefits. Under the Department of the Interior's (DOI) implementing policy, the Bureau of Ocean Energy Management (BOEM) is required to charge fees for services that provide special benefits or privileges to an identifiable non-Federal recipient above and beyond those that accrue to the public.

This ICR covers 30 CFR part 550, subpart A, General, and subpart K, Oil and Gas Production Requirements, which deal with regulatory requirements of oil, gas, and sulphur operations on the OCS. This request also covers the related Notices to Lessees and Operators (NTLs) that BOEM issues to clarify and provide guidance on some aspects of our regulations.

The BOEM uses the information collected under the Subparts A and K regulations to ensure that operations in the OCS are carried out in a safe and environmentally sound manner, do not interfere with the rights of other users in the OCS, and balance the protection and development of OCS resources. Specifically, we use the information collected to:

• Determine the capability of a well to produce oil or gas in paying quantities or to determine the possible need for additional wells resulting in minimum royalty status on a lease.

• Provide lessees/operators greater flexibility to comply with regulatory requirements through approval of alternative equipment or procedures and departures if they demonstrate equal or better compliance with the appropriate performance standards.

• Ensure that subsurface storage of natural gas does not unduly interfere with development and production operations under existing leases.

• Record the designation of an operator authorized to act on behalf of the lessee/operating rights owner and to fulfill their obligations under the OCS Lands Act and implementing regulations, or to record the local agent empowered to receive notices and comply with regulatory orders issued (Form BOEM-1123, Designation of Operator). This form requires the respondent to submit general information such as lease number, name, address, company number of designated operator, and signature of the authorized lessee. With this renewal, BOEM is adding a line for the signator's name and title and clarifying explanations and terminology. We are also introducing instructions on how to fill out the form specific to the Gulf of Mexico Region to better facilitate the processing of the form, given the volume of form submissions and inquiries that the Gulf Region receives. We estimate the instructions will increase the time from 15 to 30 minutes to read and fill out the form; however, we believe the instructions will reduce the number of basic questions and result in faster processing time for respondents.

• Determine if an application for right-of-use and easement complies with the OCS Lands Act, other applicable laws, and BOEM regulations; and does not unreasonably interfere with the operations of any other lessee.

• Provide for orderly development or disqualification of leases to determine the appropriateness of lessee/operator performance.

• Approve requests to cancel leases and ascertain if/when the Secretary may cancel leases.

• Ensure the protection of any discovered archaeological resources.

• Form BOEM-0127, Sensitive Reservoir Information Report, is used to regulate production rates from sensitive reservoirs. BOEM engineers and geologists use the information for rate control and reservoir studies. The form requests general information about the reservoir and the company, volumetric data, and fluid analysis and production data. To assist respondents in filling out the form, BOEM is introducing instructions to clarify data entries. We expect the instructions to reduce or eliminate the number of form revisions in the future, although it could initially add 30 minutes to the form burden to read them.

• Form BOEM-0140, Bottomhole Pressure Survey Report, is used to manage reservoirs in our efforts to conserve natural resources, prevent waste, and protect correlative rights, including the Government's royalty interest. Specifically, BOEM uses the information in reservoir evaluations to determine maximum production and efficient rates and to review applications for downhole commingling to ensure that action does not harm ultimate recovery or undervalued royalties. The form requests information about the well and operator; test data information such as shut-in time, bottomhole temperature, kelly bushing elevation; and bottomhole pressure points that consist of measured depth(s), true vertical depth(s), pressure(s), and pressure gradient(s). With this renewal, BOEM is adding a line to record the distance between the kelly bushing and tubing-head flange and is modifying some wording for clarification. We expect no change to the hour burden as a result.

• Determine that respondents have corrected any Incidents of Non-Compliance (INCs), Form BOEM-1832, identified during compliance reviews. The BOEM issues this form to the operator and the operator then corrects the INC(s), signs and returns the form to the BOEM Regional Supervisor. To accommodate the split of regulatory responsibilities from the former Bureau of Ocean Energy Management, Regulation, and Enforcement, BOEM will be revising this form to reflect BOEM's compliance authority and will obtain OMB approval under a separate submission.

We will protect proprietary information according to the Freedom of Information Act (5 U.S.C. 552), its implementing regulations (43 CFR part 2), 30 CFR part 252, and 30 CFR 550.197, “Data and information to be made available to the public or for limited inspection.” Proprietary information concerning geological and geophysical data will be protected according to 43 U.S.C. 1352. No items of a sensitive nature are collected. Responses are mandatory.

Frequency: Primarily on occasion; monthly.

Description of Respondents: Federal and State oil and gas and sulphur lessees/operators.

Estimated Reporting and Recordkeeping Hour Burden: The currently approved annual burden for this collection is 67,251 hours. We expect the burden estimate for the renewal will be reduced because we are removing the requirements and burdens that were transferred to the responsibility of BSEE under Secretarial Order No. 3299, May 19, 2010. The following table details the individual BOEM components and respective hour burden estimates.

Burden Breakdown
Citation 30 CFR 550 Subpart A and related forms/NTLs | Reporting or recordkeeping requirement | Hour burden: Non-hour cost burden
Authority and Definition of Terms
104; 181; Form BOEM-1832 | Appeal orders or decisions; appeal INCs; request hearing due to cancellation of lease. | Exempt under 5 CFR 1320.4(a)(2), (c).
Performance Standards
115; 116 | Request determination of well producibility; make available or submit data and information; notify BOEM of test. | 5.
119 | Apply for subsurface storage of gas; sign storage agreement. | 10.
Cost Recovery Fees
125; 126; 140 | Cost Recovery Fees; confirmation receipt etc; verbal approvals and written request to follow. Includes request for refunds | Cost Recovery Fees and related items are covered individually throughout this subpart.
Designation of Operator
143 | Report change of address | Not considered information collection under 5 CFR 1320.3(h)(1).
143(a-c); 144; 145; Form BOEM-1123 | Submit designation of operator (Form BOEM-1123—form takes 30 minutes); report change of address; notice of termination; submit designation of agent. Request exception. NO FEE | 1.
143(a-d); 144; 145; Form BOEM-1123 | Change designation of operator (Form BOEM-1123—form takes 30 minutes); report change of address; notice of termination; submit designation of agent; include pay.gov confirmation receipt. Request exception. SERVICE FEE | 1. $175 fee.
186(a)(3); NTL | Apply for user account in TIMS (electronic/digital form submittals). | Not considered information collection under 5 CFR 1320.3(h)(1).
Compliance
101; 135; 136; Form BOEM-1832 | Submit response and required information for INC, probation, or revocation of operating status. Notify when violations corrected. | 2.
| Request waiver of 14-day response time or reconsideration. | 1.
135; 136 | Request reimbursement for services provided to BOEM representatives during reviews; comment. | 1.5.
Special Types of Approval
125(c); 140 | Request various oral approvals not specifically covered elsewhere in regulatory requirements. | 1.
141; 101-199 | Request approval to use new or alternative procedures; submit required information. | 20.
142; 101-199 | Request approval of departure from operating requirements not specifically covered elsewhere in regulatory requirements; submit required information. | 2.5
Right-of-use and Easement
160; 161; 123 | OCS lessees: Apply for new or modified right-of-use and easement to construct and maintain off-lease platforms, artificial islands, and installations and other devices; include notifications and submitting required information. | 9.
160(c) | Establish a Company File for qualification; submit updated information, submit qualifications for lessee/bidder, request exception. | Burden covered under 30 CFR 556 (1010-0006).
160; 165; 123 | State lessees: Apply for new or modified right-of-use and easement to construct and maintain off-lease platforms, artificial islands, and installations and other devices; include pay.gov confirmation and notifications. | 5. $2,742.
166 | State lessees: Furnish surety bond; additional security if required. | Burden covered under 30 CFR 256 (1010-0006).
Primary Lease Requirements, Lease Term Extensions, and Lease Cancellations
181(d); 182(b), 183(a)(b) | Request termination of suspension, cancellation of lease, lesser lease term (no requests in recent years for termination/cancellation of a lease; minimal burden). | 20.
182; 183, 185; 194 | Various references to submitting new, revised, or modified exploration plan, development/production plan, or development operations coordination document, and related surveys/reports. | Burden covered under 30 CFR 550, Subpart B (1010-0151).
184 | Request compensation for lease cancellation mandated by the OCS Lands Act (no qualified lease cancellations in many years; minimal burden compared to benefit). | 50.
Information and Reporting Requirements
186; NTL | Submit information, reports, and copies as BOEM requires. | 10.
135; 136 | Report apparent violations or non-compliance. | 1.5.
194; NTL | Report archaeological discoveries. Submit archaeological and follow-up reports and additional information. | 2.
194; NTL | Request departures from conducting archaeological resources surveys and/or submitting reports. | 1.
194 | Submit ancillary surveys/investigations reports, as required. | Burden covered under 30 CFR 550 Subpart B (1010-0151).
196 | Submit data/information for G&G activity and request reimbursement. | Burden covered under 30 CFR 251 (1010-0048).
197(b)(2) | Demonstrate release of G&G data would unduly damage competitive position. | 1.
197(c) | Submit confidentiality agreement. | 1.
Recordkeeping
135; 136 | During reviews, make records available as requested by inspectors. | 2.

Citation 30 CFR 550 Subpart K and related forms | Well surveys and classifying reservoirs | Hour burden
1153 | Conduct static bottomhole pressure survey; submit Form BOEM-0140 (Bottomhole Pressure Survey Report) (within 60 days after survey). | 14.
1153(d) | Submit justification, information, and Form BOEM-0140, to request a departure from requirement to run a static bottomhole survey. | 1.
1154; 1167 | Submit request and supporting information to reclassify reservoir. | 6.

Citation 30 CFR 550 Subpart A and related forms/NTLs | Reporting or recordkeeping requirement | Hour burden: Non-hour cost burden
1155; 1165(b); 1166; 1167 | Submit Form BOEM-0127 (Sensitive Reservoir Information Report) and supporting information/revisions (within 45 days after certain events or at least annually). AK Region: Submit BOEM-0127 and request maximum efficiency rates. | 3.
1153-1167 | Request general departure or alternative compliance requests not specifically covered elsewhere in regulatory requirements. | 1.
1165 | Submit proposed plan for enhanced recovery operations to BSEE. | Burden covered under BSEE 30 CFR 250 (1014-0019).

Estimated Reporting and Recordkeeping Non-Hour Cost Burden: We have identified two non-hour cost burdens. Section 550.143 requires a fee for a change in designation of operator ($175). Section 550.165 requires a State lessee applying for a right-of use and easement in the OCS to pay a cost recovery application fee ($2,742). These fees reflect the recent adjustment for inflation that became effective February 2, 2013 (78 FR 5836, 1/28/13).

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments on: (a) Whether or not the collection of information is necessary, including whether or not the information will have practical utility; (b) the accuracy of our burden estimates; (c) ways to enhance the quality, utility, and clarity of the information to be collected; and (d) ways to minimize the burden on respondents.

Agencies must also estimate the non-hour cost burdens to respondents or recordkeepers resulting from the collection of information. Therefore, if you have costs to generate, maintain, and disclose this information, you should comment and provide your total capital and startup costs and annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: June 6, 2013.
Deanna Meyer-Pietruszka,
Chief, Office of Policy, Regulations, and Analysis.

[FR Doc. 2013-14093 Filed 6-14-13; 8:45 am]

BILLING CODE 4810-MR-P